DEPARTMENT OF COMMERCE

United States Patent and Trademark Office

Submission for OMB Review; Comment Request; Ombudsman Survey

The United States Patent and Trademark Office (USTPO) will submit to the Office of Management and Budget (OMB) for clearance the following proposal for collection of information under the provisions of the Paperwork Reduction Act.

Agency: United States Patent and Trademark Office, Commerce.

Title: Ombudsman Survey.

OMB Control Number: 0651-0078.

Form Number(s): None.

Type of Request: Regular.

Number of Respondents: 1,100 responses per year.

Average Hours per Response: The USPTO estimates that it will take approximately 5 minutes (0.08 hours) to complete the survey.

Burden Hours: 91.67 hours per year.

Cost Burden: $0.

Needs and Uses: The objectives of the Patents Ombudsman Program are: (1) To facilitate complaint-handling for pro se applicants and applicant's representatives whose applications have stalled in the examination process; (2) to track complaints to ensure each is handled within ten business days; (3) to provide feedback and early warning alerts to USPTO management regarding training needs based on complaint trends; and (4) to build a database of frequently asked questions accessible to the public that address commonly seen problems and provide effective resolutions. The USPTO Ombudsman survey is a key component in the agency's evaluation of the program, providing a mechanism to monitor the effectiveness of the program and identify potential opportunities for program enhancement. This survey is being conducted by the USPTO's Ombudsman Program and will be developed, administered, and summarized by USPTO personnel.

Affected Public: Businesses or other for-profits; not-for-profit institutions.

Frequency: On occasion.

Respondent's Obligation: Voluntary.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0078 copy request” in the subject line of the message.

• Mail: Marcie Lovett, Director, Records and Information Governance Division, Office of the Chief Technology Officer, United States Patent and Trademark Office, P.O. Box 1450, Alexandria, VA 22313-1450.

Written comments and recommendations for the proposed information collection should be sent on or before June 25, 2018 to Nicholas A. Fraser, OMB Desk Officer, via email to Nicholas_A._Fraser@omb.eop.gov, or by fax to 202-395-5167, marked to the attention of Nicholas A. Fraser.

Marcie Lovett,
Director, Records and Information Governance Division, Office of the Chief Technology Officer, United States Patent and Trademark Office.

[FR Doc. 2018-11252 Filed 5-24-18; 8:45 am]

BILLING CODE 3510-16-P